ENVIRONMENTAL PROTECTION AGENCY

40 CFR Part 52

[EPA-R10-OAR-2013-0421; FRL-9907-21-Region 10]

Approval and Promulgation of State Implementation Plans: Alaska; Anchorage Carbon Monoxide Limited Maintenance Plan and State Implementation Plan Revisions

AGENCY: Environmental Protection Agency (EPA).

ACTION: Proposed rule.

SUMMARY: The State of Alaska (the State) submitted two State Implementation Plan (SIP) revisions to the Anchorage Transportation Control Program, Anchorage Carbon Monoxide (CO) Maintenance Plan. On September 20, 2011, the State submitted a SIP revision (2011 Submittal) that updated Anchorage's carbon monoxide (CO) motor vehicle emissions budget in the Anchorage CO maintenance area using the EPA's Motor Vehicle Emission Simulator model. On April 22, 2013, the State submitted a SIP revision (2013 Submittal) to satisfy the Clean Air Act (CAA) section 175A(b) requirement for a second 10-year maintenance plan for the Anchorage CO maintenance area in the form of a limited maintenance plan (LMP). This LMP addresses maintenance of the CO National Ambient Air Quality Standards for a second 10-year period, beyond redesignation of the area to attainment, through 2024. The EPA is proposing to approve both the 2013 Submittal and portions of the 2011 Submittal that are not superseded by the 2013 Submittal. The EPA is proposing to approve these SIP revisions because the State has demonstrated that they are consistent with the CAA.

DATES: Comments must be received on or before April 2, 2014.

ADDRESSES: Submit your comments, identified by Docket ID No. EPA-R10-OAR-2013-0421, by any of the following methods:

• www.regulations.gov: Follow the on-line instructions for submitting comments.

• Email: R10-Public_Comments@epa.gov.

• Mail: Mr. Keith Rose, U.S. EPA Region 10, Office of Air, Waste and Toxics, AWT-107, 1200 Sixth Avenue, Suite 900, Seattle, WA 98101.

• Hand Delivery/Courier: U.S. EPA Region 10, 1200 Sixth Avenue, Suite 900, Seattle, WA 98101. Attention: Keith Rose, Office of Air, Waste and Toxics, AWT-107. Such deliveries are only accepted during normal hours of operation, and special arrangements should be made for deliveries of boxed information.

Please see the direct final rule which is located in the Rules section of this Federal Register for detailed instructions on how to submit comments.

FOR FURTHER INFORMATION CONTACT: Keith Rose at telephone number: (206) 553-1949, email address: rose.keith@epa.gov, or the above EPA, Region 10 address.

SUPPLEMENTARY INFORMATION: For further information, please see the direct final action, of the same title, which is located in the Rules section of this Federal Register. The EPA is simultaneously approving the State's SIP revision as a direct final rule without prior proposal because the EPA views this as a noncontroversial SIP revision and anticipates no adverse comments. A detailed rationale for the approval is set forth in the preamble to the direct final rule. If the EPA receives no adverse comments, the EPA will not take further action on this proposed rule.

If the EPA receives adverse comments, the EPA will withdraw the direct final rule and it will not take effect. The EPA will address all public comments in a subsequent final rule based on this proposed rule. The EPA will not institute a second comment period on this action. Any parties interested in commenting on this action should do so at this time. Please note that if we receive adverse comment on an amendment, paragraph, or section of this rule and if that provision may be severed from the remainder of the rule, the EPA may adopt as final those provisions of the rule that are not the subject of an adverse comment.

Dated: February 13, 2014.
Dennis J. McLerran,
Regional Administrator, Region 10.

[FR Doc. 2014-04443 Filed 2-28-14; 8:45 am]

BILLING CODE 6560-50-P